DEPARTMENT OF THE INTERIOR

National Park Service

[NPS-WASO-NAGPRA-NPS0035865; PPWOCRADN0-PCU00RP14.R50000]

Notice of Intent To Repatriate Cultural Items: Yuba County Water Agency, Marysville, CA

AGENCY: National Park Service, Interior.

ACTION: Notice.

SUMMARY: In accordance with the Native American Graves Protection and Repatriation Act (NAGPRA), Yuba County Water Agency (YCWA) intends to repatriate certain cultural items that meet the definition of objects of cultural patrimony and that have a cultural affiliation with the Indian Tribes or Native Hawaiian organizations in this notice. The cultural items were removed from Yuba County, CA.

DATES: Repatriation of the cultural items in this notice may occur on or after June 20, 2023.

ADDRESSES: Jacob Vander Meulen, YCWA, 1220 F Street, Marysville, CA 95901, telephone (530) 443-7412, email jvandermeulen@yubawater.org.

SUPPLEMENTARY INFORMATION: This notice is published as part of the National Park Service's administrative responsibilities under NAGPRA. The determinations in this notice are the sole responsibility of YCWA. The National Park Service is not responsible for the determinations in this notice. Additional information on the determinations in this notice, including the results of consultation, can be found in the summary or related records held by YCWA.

Description

Four lots of objects of cultural patrimony were removed from Yuba County, CA. They are described below.

In 1966, one lot of cultural items was removed from an area near the southwestern end of Garden Valley during excavations carried out under the direction of archeologist Stephen E. Humphreys prior to inundation of the area by the Yuba County Water Agency's New Bullards Bar Project. The location was given archeological site numbers CA-YUB-018, P-58-0036, YUB-S21, and BB#4. They are currently located at the California State University Sacramento (CSU Sacramento) curation facility. This lot contains projectile points and projectile point fragments, knives, scrapers, cores, choppers, ground or pecked stones including pestles, hammerstone, mano fragments, abrading stones, steatite objects, ochre, and other uncategorized objects.

In 1966, one lot of cultural items was removed from an area near Garden Valley during excavations carried out under the direction of archeologist Stephen E. Humphreys prior to inundation of the area by the Yuba County Water Agency's New Bullards Bar Project. The location was given archeological site numbers CA-YUB-019, P-58-0037, YUB-S22, and BB#5. They are currently located at the CSU Sacramento curation facility. This lot contains projectile points and projectile point fragments, drills, knives and knife fragments, scrapers and halfted scrapers/knives, gravers, cores, choppers, ground or pecked stones including pestles, mano fragments, metates, and other uncategorized objects.

In 1966, one lot of cultural items was removed from an area overlooking a tributary of Willow Creek during excavations carried out under the direction of archeologist Stephen E. Humphreys prior to inundation of the area by the Yuba County Water Agency's New Bullards Bar Project. The location was given archeological site numbers CA-YUB-021, P-58-0039, YUB-S24, AR6(?), and BB#7. They are currently located at the CSU Sacramento curation facility. This lot contains groundstone flakes and other uncategorized objects.

In 1966, one lot of cultural items was removed from the southeast side of Garden Valley during excavations carried out under the direction of archeologist Stephen E. Humphreys prior to inundation of the area by the Yuba County Water Agency's New Bullards Bar Project. The location was given archeologically designated site numbers: CA-YUB-0024, YUB-S19, SSC1, BB#2, and P-58-0042. They are currently located at the CSU Sacramento curation facility. This lot contains projectile points and projectile point fragments, obsidian gravers, drills, spear points, halfted knives, scrapers, cores, choppers, ground/battered stone tools, rubbing stones, mortar fragments, a net sinker, an anvil stone, pestles, hammerstones, a shaped stone, a pendant, modified and unmodified steatite fragments (including bowl, cup, and dish fragments), red ochre, modified bones, a glass bead, a shaft polisher, shell fragments, and quartz crystals.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: based on geographical, kinship, biological, archeological, anthropological, linguistic, folkloric, oral traditional, historical, and expert opinion, including tribal traditional knowledge.

Determinations

Pursuant to NAGPRA and its implementing regulations, and after consultation with the appropriate Indian Tribes and Native Hawaiian organizations, YCWA has determined that:

• The four lots of cultural items described above have ongoing historical, traditional, or cultural importance central to the Native American group or culture itself, rather than property owned by an individual.

• There is a relationship of shared group identity that can be reasonably traced between the cultural items and the United Auburn Indian Community of the Auburn Rancheria of California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 20, 2023. If competing requests for repatriation are received, YCWA must determine the most appropriate requestor prior to repatriation. Requests for joint repatriation of the cultural items are considered a single request and not competing requests. YCWA is responsible for sending a copy of this notice to the Indian Tribe identified in this notice.

Authority: Native American Graves Protection and Repatriation Act, 25 U.S.C. 3003, and the implementing regulations, 43 CFR 10.8, 10.10, and 10.14.

Dated: May 10, 2023.
Melanie O'Brien,
Manager, National NAGPRA Program.

[FR Doc. 2023-10560 Filed 5-17-23; 8:45 am]

BILLING CODE 4312-52-P